DEPARTMENT OF HEALTH AND HUMAN SERVICES

National Institutes of Health

Government-Owned Inventions; Availability for Licensing

AGENCY: National Institutes of Health, Public Health Service, DHHS.

ACTION: Notice.

SUMMARY: The inventions listed below are owned by agencies of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

Countercurrent Chromatography Separation of Polar Sulfonated Compounds

Adrian Weisz, Yoichiro Ito (NHLBI)

DHHS Reference No. E-304-2002 filed 26 Aug 2002.

Licensing Contact: Dale Berkley; 301/435-5019; berkleyd@od.nih.gov.

The invention is a method and apparatus for separating a quantity of a sulfonated polar compound from other compounds in a mixture using countercurrent chromatography. The inventors have found that countercurrent chromatography techniques may be employed to separate different species of polar sulfonated compounds that have resisted isolation in preparative amounts by other chromatographic methods. Countercurrent chromatography is a technique that has been used to separate a variety of compound mixtures, but has not been previously employed to separate multigram quantities of polar sulfonated compounds without use of a ligand. In one embodiment, pH-zone-refining countercurrent chromatography has been found especially successful in this application. It has also been found that the use of an X-type planetary centrifuge is beneficial to obtaining good results. For two particular species of polar sulfonated compounds, the use of a cross-axis (X1.5L-type) centrifuge successfully separated preparative quantities (100 mg, gram, or multi-gram quantities) of material to greater than 99% purity. The cross axis centrifuge facilitated the use of polar solvent systems with high retention of the stationary phase, resulting in successful separation and/or purification of large quantities of polar compounds.

MRI Navigator Methods and Systems

Vinay Pai, Han Wen (NHLBI)

DHHS Reference No. E-164-2002 filed 16 Sep 2002.

Licensing Contact: Dale Berkley; 301/435-5019; berkleyd@od.nih.gov.

The invention is a non-breathhold flow sensitive navigator (FLOSEN) technique for reducing respiratory motion artifacts in MR images that tracks the cardiac position using a blood flow based complex difference scheme. The approach tracks the fast moving blood during systole as a marker for the heart position, while stationary or slow moving spins are suppressed. By this approach, the position of the heart can be determined directly, without needing fractional correlation with the diaphragm motion. The method uses a spoiled-Fast Low Angle Shot (FLASH) sequence and incorporates an alternating pair of bipolar velocity-encoding gradients. This method appears to be capable of resolving heart motions greater than +/-0.1 pixel. The navigator based on the position of the fast moving blood volume in the left ventricle may be applied prospectively to shift a subsequent imaging slice to compensate for subject motion, and thereby provide MRI images with increase clarity and resolution.

Method for Functional Kidney Imaging Using Small Dendrimer Contrast Agents

Martin Brechbiel (NCI), Robert Star (NIDDK), Hisataka Kobayashi

DHHS Reference No. E-151-2002 filed 26 Aug 2002.

Licensing Contact: Dale Berkley; 301/435-5019; berkleyd@od.nih.gov.

The invention is a method for functional kidney imaging using small dendrimer-based MRI contrast agents that transiently accumulate in renal tubules. The accumulation enables visualization of renal structure and function, permitting assessment of structural and functional damage to the kidneys. Six small dendrimer-based MRI contrast agents have been synthesized, and their pharmacokinetics, whole body retention and renal MRI images were evaluated in mice. Surprisingly, despite having unequal renal clearance properties, all of the dendrimer agents clearly visualized the renal anatomy and proximal straight tubules of the mice better than Gd-[DTPA]-dimeglumine. Dendrimer conjugate contrast agents prepared from PAMAM-G2D, DAB-G3D and DAB-G2D dendrimers were excreted rapidly and may be acceptable for use in clinical applications.

Modified Defensins and Their Use

Dr. Joel Moss et al. (NHLBI)

DHHS Reference No. E-080-2002/0 filed 19 Feb 2002.

Licensing Contact: Marlene Shinn; 301/435-4426; shinnm@od.nih.gov.

The ubiquitous use of antibiotics has resulted in the selection of bacteria that are relatively resistant to these drugs. Furthermore, few drugs are effective against viral and fungal microorganisms. There is therefore a continuing need to identify novel agents that reduce or inhibit the growth of such microorganisms, or to identify ways of modifying existing agents in order to give them superior antimicrobial activities, or to identify agents that may recruit inflammatory cells.

Defensins are broad-spectrum antimicrobial molecules that act against infectious agents and play important roles in the innate immune defense in vertebrates. These molecules exhibit a wide range of antimicrobial activities, including cytotoxicity towards bacteria cells, but are also cytotoxic for mammalian cells, which limits their usefulness as antimicrobial agents. The NIH announces the creation of modified defensins through their arginine residues. These compounds can be used to inhibit the toxic effect of defensins, while retaining their T cell chemotactic properties and promoting recruitment of inflammatory cells. In the case of pulmonary disease, these agents can be delivered directly to the site of inflammation by inhalation.

Dated: November 8, 2002.
Jack Spiegel,
Director, Division of Technology Development and Transfer, Office of Technology Transfer National Institutes of Health.

[FR Doc. 02-29559 Filed 11-20-02; 8:45 am]

BILLING CODE 4140-01-P